FEDERAL COMMUNICATIONS COMMISSION

47 CFR Part 54

[WC Docket No. 02-60; Report No. 2974]

Petition for Reconsideration of Action in a Rulemaking Proceeding

AGENCY: Federal Communications Commission.

ACTION: Petition for reconsideration.

SUMMARY: In this document, a Petition for Reconsideration and Clarification (Petition) has been filed in the Commission's rulemaking proceeding by Kevin Rupy on behalf of United States Telecom Association.

DATES: Oppositions to the Petition must be filed on or before May 9, 2013. Replies to an opposition must be filed on or before May 20, 2013.

ADDRESSES: Federal Communications Commission, 445 12th Street SW., Washington, DC 20554.

FOR FURTHER INFORMATION CONTACT: Linda Oliver, Wireline Competition Bureau, at (202) 418-1732 or TTY (202) 418-0484.

SUPPLEMENTARY INFORMATION: This is a summary of Commission's document, Report No. 2974, released April 17, 2013. The full text of Report No. 2974 is available for viewing and copying in Room CY-B402, 445 12th Street SW., Washington, DC or may be purchased from the Commission's copy contractor, Best Copy and Printing, Inc. (BCPI) (1 (800) 378-3160). The Commission will not send a copy of this Notice pursuant to the Congressional Review Act, 5 U.S.C. 801(a)(1)(A), because this Notice does not have an impact on any rules of particular applicability.

Subject: Rural Health Care Support Mechanism, Petition for Reconsideration and Clarification of the United States Telecom Association, published at 78 FR 13936, March 1, 2013 in WC Docket No. 02-60, and published pursuant to 47 CFR 1.429(e). See also 1.4(b)(1) of the Commission's rules.

Number of Petitions Filed: 1.

Federal Communications Commission.
Gloria J. Miles,
Federal Register Liaison, Office of the Secretary, Office of Managing Director.

[FR Doc. 2013-09601 Filed 4-23-13; 8:45 am]

BILLING CODE 6712-01-P